DEPARTMENT OF ENERGY

[Docket Nos. FE C&E 01-48, C&E 01-49, C&E 01-50 and C&E 01-51, Certification Notice—197]

Office of Fossil Energy; Notice of Filings of Coal Capability of GenPower McIntosh, LLC, FPLE Rhode Island State Energy, L.P., Freestone Power Generation, L.P., and Carville Energy, LLC, Powerplant and Industrial Fuel Use Act

AGENCY: Office of Fossil Energy, DOE.

ACTION: Notice of filing.

SUMMARY: GenPower McIntosh, LLC, FPLE Rhode Island State Energy, L.P., Freestone Power Generation, L.P., and Carville Energy, LLC, submitted coal capability self-certifications pursuant to section 201 of the Powerplant and Industrial Fuel Use Act of 1978, as amended.

ADDRESSES: Copies of self-certification filings are available for public inspection, upon request, in the Office of Coal & Power Im/Ex, Fossil Energy, Room 4G-039, FE-27, Forrestal Building, 1000 Independence Avenue, SW., Washington, DC 20585.

FOR FURTHER INFORMATION CONTACT: Ellen Russell at (202) 586-9624

SUPPLEMENTARY INFORMATION: Title II of the Powerplant and Industrial Fuel Use Act of 1978 (FUA), as amended (42 U.S.C. 8301 et seq.), provides that no new baseload electric powerplant may be constructed or operated without the capability to use coal or another alternate fuel as a primary energy source. In order to meet the requirement of coal capability, the owner or operator of such facilities proposing to use natural gas or petroleum as its primary energy source shall certify, pursuant to FUA section 201(d), to the Secretary of Energy prior to construction, or prior to operation as a base load powerplant, that such powerplant has the capability to use coal or another alternate fuel. Such certification establishes compliance with section 201(a) as of the date filed with the Department of Energy. The Secretary is required to publish a notice in the Federal Register that a certification has been filed. The following owners/operators of the proposed new baseload powerplants have filed a self-certification in accordance with section 201(d).

Owner: GenPower McIntosh, LLC, (C&E 01-48).

Operator: General Electric International, Inc.

Location: Effingham County, Georgia.

Plant Configuration: Combined-cycle.

Capacity: 529 MW.

Fuel: Natural gas.

Purchasing Entities: Wholesale power market.

In-Service Date: January 2004.

Owner: Rhode Island State Energy Partners, L.P., (C&E 01-49).

Operator: FPLE Rhode Island State Energy, L.P.

Location: Johnston, Rhode Island.

Plant Configuration: Combined-cycle.

Capacity: 535 MW.

Fuel: Natural gas.

Purchasing Entities: The New England wholesale energy market..

In-Service Date: July 1, 2002.

Owner: Freestone Power Generation, L.P., (C&E 01-50).

Operator: Freestone Power Generation, L.P.

Location: Freestone County, Texas.

Plant Configuration: Combined-cycle.

Capacity: 1,050 MW.

Fuel: Natural gas.

Purchasing Entities: Calpine Energy Services, L.P. and other wholesale purchasers.

In-Service Date: May 1, 2002.

Owner: Carville Energy LLC, (C&E 01-51).

Operator: Calpine Central, L.P.

Location: Carville, Louisiana.

Plant Configuration: Combined-cycle.

Capacity: 508 MW.

Fuel: Natural gas.

Purchasing Entities: Wholesale market.

In-Service Date: June 2002.

Issued in Washington, DC, February 28, 2001.
Anthony J. Como,
Deputy Director, Electric Power Regulation, Office of Coal & Power Im/Ex, Office of Coal & Power Systems, Office of Fossil Energy.

[FR Doc. 01-6054 Filed 3-9-01; 8:45 am]

BILLING CODE 6450-01-P